DEPARTMENT OF HEALTH AND HUMAN SERVICES

National Institutes of Health

Center for Scientific Review; Amended Notice of Meeting

Notice is hereby given of a change in the meeting of the Cardiac Contractility, Hypertrophy, and Failure Study Section, October 17, 2013, 08:00 a.m. to October 17, 2013, 06:00 p.m., Renaissance Mayflower Hotel, 1127 Connecticut Avenue NW., Washington, DC 20036, which was published in the Federal Register on September 23, 2013, 78 FR 184 Pgs. 58324-58325.

The meeting will start on December 13, 2013 at 8:00 a.m. and end December 13 2013 at 6:00 p.m. The meeting location remains the same. The meeting is closed to the public.

Dated: October 29, 2013.
Melanie J. Gray,
Program Analyst, Office of Federal Advisory Committee Policy.

[FR Doc. 2013-26152 Filed 11-1-13; 8:45 am]

BILLING CODE 4140-01-P